FEDERAL COMMUNICATIONS COMMISSION

47 CFR Part 73

[DA 05-556; MB Docket No. 04-301, RM-10969; MB Docket No. 04-302, RM-11020; MB Docket No. 04-303, RM-11025; MB Docket No. 04-304, RM-11021; MB Docket No. 04-306, RM-10754; MB Docket No. 04-307, RM-10982; MB Docket No. 04-308, RM-10973; MB Docket No. 04-309, RM-10974]

Radio Broadcasting Services; Kerman, CA, Lockney, TX, Lone Wolf, OK, Quanah, TX, Orchard Mesa, CO, Rising Star, TX, Twentynine Palms, CA, Waterford, CA

AGENCY: Federal Communications Commission.

ACTION: Final rule.

SUMMARY: This document adds eight new allotments in Kerman, California, Lockney, Texas, Lone Wolf, Oklahoma, Quanah, Texas, Orchard Mesa, Colorado, Rising Star, Texas, Twentynine Palms, California, and Waterford, California. The Audio Division, at the request of Linda A. Davidson, allots Channel 224A at Kerman, California, as the community's third local aural transmission service. Channel 224A can be allotted to Kerman in compliance with the Commission's minimum distance separation requirements with a site restriction of 13.8 kilometers (8.6 miles) west to avoid a short-spacing to the license sites of FM Station KZFO, Channel 224B, Clovis, California and FM Station KMJO, Channel 224B1, Marina, California. The reference coordinates for Channel 224A at Kerman are 36-40-37 North Latitude and 120-12-08 West Longitude. Supplementary Information, infra.

DATES: Effective April 18, 2005. The window period for filing applications for these allotments will not be opened at this time. Instead, the issue of opening these allotments for auction will be addressed by the Commission in a subsequent order.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 04-301, 04-302, 04-303, 04-304, 04-306, 04-307, 04-308, 04-309, adopted March 2, 2005 and released March 4, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

The Audio Division, at the request of Charles Crawford, allots Channel 271C3 at Lockney, Texas, as the community's first local aural transmission service. Channel 271C3 can be allotted to Lockney in compliance with the Commission's minimum distance separation requirements with a site restriction of 6.7 kilometers (4.2 miles) southeast to avoid a short-spacing to the vacant allotment site of Channel 269A at Turkey, Texas and the license site of FM Station KATP, Channel 270C1, Amarillo, Texas and Station KZII-FM, Channel 273C3, Clovis, New Mexico. The reference coordinates for Channel 271C3 at Lockney are 34-05-00 North Latitude and 101-23-15 West Longitude.

The Audio Division, at the request of Charles Crawford, allots Channel 224A at Lone Wolf, Oklahoma, as the community's first local aural transmission service. Channel 224A can be allotted to Lone Wolf in compliance with the Commission's minimum distance separation requirements with a site restriction of 7.8 kilometers (4.8 miles) east to avoid a short-spacing to the license sites of Station KOMA-FM, Channel 223C, Oklahoma, Oklahoma, Station KNIN-FM, Channel 225C1, Wichita Falls, Texas and FM Station KBKH, Channel 225C2, Shamrock, Texas. The reference coordinates for Channel 224A at Lone Wolf are 34-58-53 North Latitude and 99-09-53 West Longitude.

The Audio Division, at the request of Charles Crawford, allots Channel 255C3 at Quanah, Texas, as the community's second local aural transmission service. Channel 255C3 can be allotted to Quanah in compliance with the Commission's minimum distance separation requirements with a site restriction of 14.9 kilometers (9.3 miles) south to avoid a short-spacing to the vacant allotment site of Channel 254A at Seymour, Texas and the license site of FM Station KRIJ, Channel 253C, Elk City, Oklahoma. The reference coordinates for Channel 255C3 at Quanah are 34-10-04 North Latitude and 99-46-49 West Longitude.

The Audio Division, at the request of Dana J. Puopolo, allots Channel 249C3 at Orchard Mesa, as the community's first local aural transmission service. Channel 249C3 can be allotted to Orchard Mesa in compliance with the Commission's minimum distance separation requirements with a site restriction of 5.8 kilometers (3.6 miles) northwest to avoid a short-spacing to the vacant allotment site of Channel 249C3 at Aspen, Colorado. The reference coordinates for Channel 249C3 at Orchard Mesa are 39-04-47 North Latitude and 108-36-00 West Longitude.

The Audio Division, at the request of Charles Crawford, allots Channel 290C3 at Rising Star, Texas, as the community's first local aural transmission service. Channel 290C3 can be allotted to Rising Star in compliance with the Commission's minimum distance separation requirements at city reference coordinates. The reference coordinates for Channel 290C3 at Rising Star are 32-05-54 North Latitude and 98-58-00 West Longitude.

The Audio Division, at the request of Dana J. Puopolo, allots Channel 270A at Twentynine Palms, California, as the community's third local aural transmission service. Channel 270A can be allotted to Twentynine Palms in compliance with the Commission's minimum distance separation requirements with a site restriction of 3.5 kilometers (2.2 miles) north to avoid a short-spacing to the license site of FM Station KWID, Channel 270C, Las Vegas, Nevada and Mexican Station XHPF-FM, Channel 270B, Mexicali, BN. Mexican concurrence has been requested since Twentynine Palms is located within 320 kilometers (199 miles) of the US-Mexican border. The reference coordinates for Channel 270A at Twentynine Palms are 34-09-41 North Latitude and 116-03-47 West Longitude.

The Audio Division, at the request of Linda A. Davidson, allots Channel 294A at Waterford, California, as the community's first local aural transmission service. Channel 294A can be allotted to Waterford in compliance with the Commission's minimum distance separation requirements with a site restriction of 11.1 kilometers (6.9 miles) east to avoid a short-spacing to the license site of FM Station KEZR, Channel 293B, San Jose, California. The reference coordinates for Channel 294A at Waterford are 37-40-21 North Latitude and 120-38-26 West Longitude.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under California, is amended by adding Channel 224A at Kerman, by adding Channel 270A at Twentynine Palms, and by adding Waterford, Channel 294A.

3. Section 73.202(b), the Table of FM Allotments under Colorado, is amended by adding Orchard Mesa, Channel 249C3.

4. Section 73.202(b), the Table of FM Allotments under Oklahoma, is amended by adding Lone Wolf, Channel 224A.

5. Section 73.202(b), the Table of FM Allotments under Texas, is amended by adding Lockney, Channel 271C3, by adding Channel 255C3 at Quanah, and by adding Rising Star, Channel 290C3.

Federal Communications Commission.
John A. Karousos,
Assistant Chief, Audio Division, Media Bureau.

[FR Doc. 05-5733 Filed 3-22-05; 8:45 am]

BILLING CODE 6712-01-P